DEPARTMENT OF AGRICULTURE

Submission for OMB Review; Comment Request

November 4, 2021.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 9, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: Movement of Plants and Plant Products from Hawaii and the Territories.

OMB Control Number: 0579-0346.

Summary of Collection: Under the Plant Protection Act (7 U.S.C 7701), the Secretary of Agriculture is authorized to prohibit or restrict the importation, entry, or movement of fruits, vegetables, plants, and plant pests to prevent the introduction of pests or diseases into the United States, or dissemination of pests and diseases within the United States. The Animal and Plant Health Inspection Service (APHIS), Plant Protection and Quarantine (PPQ), is responsible for implementing this Act and does so through the enforcement of its Hawaiian and territorial quarantine regulations contained in Part 318 of Title 7, Code of Federal Regulations.

Need and Use of the Information: APHIS will use the following forms and activities to collect information: PPQ 530, PPQ 586, PPQ 519, PPQ 540, Labeling of Boxes for Pest Free Areas, Inspection and Certification, Trapping and Surveillance, Contingency Plans approved by APHIS, Updated Mapping Identifying Places Where Horticultural or Other Crops are Grown, Written Request for Treatment Facility Approval—and Recertification, Recordkeeping, Decertification of Pest Free Areas—and Reinstatement, Notification of Emergency Conveyance, Aircraft/Ship Inspections of Departure, Production Site Registration, Packing House Registration; Labeling From Pest Free Areas, Labeling of Boxes for Pest Free Areas; Packing, Markings and Identify. If APHIS did not collect this information or if APHIS collected this information less frequently, the spread of dangerous plant diseases and pests could cause millions of dollars in damage to U.S. agriculture.

Description of Respondents: Business or other for-profits; State, Local or Tribal Government.

Number of Respondents: 283.

Frequency of Responses: Recordkeeping; Reporting: On occasion.

Total Burden Hours: 3,286.

Ruth Brown,
Departmental Information Collection Clearance Officer.

[FR Doc. 2021-24470 Filed 11-8-21; 8:45 am]

BILLING CODE 3410-34-P